DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 26, 2008.

Interested persons are invited to submit written comments regarding the subject matter of the investigations to the Director, Division of Trade Adjustment Assistance, at the address shown below, not later than December 26, 2008.

The petitions filed in this case are available for inspection at the Office of the Director, Division of Trade Adjustment Assistance, Employment and Training Administration, U.S. Department of Labor, Room C-5311, 200 Constitution Avenue, NW., Washington, DC 20210.

Signed at Washington, DC, this 5th day of December 2008.
Erin Fitzgerald,
Director, Division of Trade Adjustment Assistance.

Appendix
[TAA Petitions Instituted Between 11/17/08 and 11/21/08]
TA-W | Subject firm (petitioners) | Location | Date of institution | Date of petition
64441 | Decea Classic Upholstery (Wkrs) | High Point, NC | 11/17/08 | 11/14/08
64442 | Ranal, Inc. (Wkrs) | Auburn Hills, MI | 11/17/08 | 11/13/08
64443 | Atlantic Durant Technology, Inc. (Wkrs) | Harlingen, TX | 11/17/08 | 11/14/08
64444 | International Paper (State) | Albany, OR | 11/17/08 | 10/17/08
64445 | Stella Starr (Wkrs) | South San Francisco, CA | 11/17/08 | 11/13/08
64446 | Doutt Tool (Wkrs) | Vanango, PA | 11/17/08 | 11/14/08
64447 | Vibracoustic North America (Comp) | Ligonier, IN | 11/17/08 | 11/13/08
64448 | Scott Curtis Construction Co., Inc. (Comp) | Granite Falls, NC | 11/17/08 | 11/12/08
64449 | Whirlpool Jackson Dishwashing Products (Comp) | Jackson, TN | 11/17/08 | 11/14/08
64450 | Weather Shield Manufacturing, Inc (Wkrs) | Medford, WI | 11/17/08 | 11/14/08
64451 | Open Solutions (State) | San Leandro, CA | 11/17/08 | 10/30/08
64452 | Kensington Windows, Inc. (IUE) | Vandergrift, PA | 11/17/08 | 11/14/08
64453 | ThyssenKrupp Crankshaft Co (UAW) | Fostoria, OH | 11/17/08 | 11/05/08
64454 | Alcatel-Lucent (Comp) | Charlotte, NC | 11/18/08 | 11/17/08
64455 | Ideal (Comp) | St. Augustine, FL | 11/18/08 | 11/17/08
64456 | ILPea, Inc. (State) | Fort Smith, AR | 11/18/08 | 11/17/08
64457 | Xerox Corp. (UNITE) | Oklahoma City, OK | 11/18/08 | 11/17/08
64458 | Continental Structural Plastics (UAW) | North Baltimore, OH | 11/18/08 | 11/11/08
64459 | Entegris Corp. (State) | Chaska, MN | 11/18/08 | 11/17/08
64460 | Standard Thomson Corp (IUE) | Waltham, MA | 11/18/08 | 11/13/08
64461 | Chrysler Corp (UAW) | Newark, DE | 11/18/08 | 11/17/08
64462 | Foamex (Wkrs) | Corry, PA | 11/18/08 | 11/13/08
64463 | Alltrista Plastics, LLC (Comp) | Fort Smith, AR | 11/18/08 | 11/18/08
64464 | Times Fiber Communications (Comp) | Liberty, NC | 11/18/08 | 11/15/08
64465 | Eldorado Cap, Co. (Wkrs) | Eldorado, IL | 11/18/08 | 11/07/08
64466 | Mt. Pleasant Hosiery (Comp) | Mt. Pleasant, NC | 11/18/08 | 11/12/08
64467 | Piramal/Gujuarrt Glass (Wkrs) | Park Hills, MO | 11/19/08 | 11/17/08
64468 | MRV Communication (Comp) | Littleton, MA | 11/19/08 | 11/17/08
64469 | Avail Medical Products (Wkrs) | Bellefonte, PA | 11/19/08 | 11/07/08
64470 | TDS/Syncreon Automotive (Wkrs) | Chicago, IL | 11/19/08 | 11/10/08
64471 | Lorentson Manufacturing Co, Inc. (Wkrs) | Kokomo, IN | 11/19/08 | 11/12/08
64472 | Hyosung USA, Inc. (UFCW) | Decatur, AL | 11/19/08 | 11/18/08
64473 | Magnolia Garment Corporation (Wkrs) | Tylertown, MS | 11/19/08 | 11/11/08
64474 | Dale Medical Products, Inc. (Comp) | Plainville, MA | 11/19/08 | 11/14/08
64475 | Citation Corp (Comp) | Lufkin, TX | 11/19/08 | 11/10/08
64476 | Iowa Precision Industries (Wkrs) | Cedar Rapids, IA | 11/19/08 | 11/13/08
64477 | Engineered Machined Products (Union) | Escanaba, MI | 11/20/08 | 11/14/08
64478 | Broyhill Furniture Industries, Inc. (Comp) | Lenoir, NC | 11/20/08 | 11/18/08
64479 | Pardon, Inc. (Wkrs) | Gladstone, MI | 11/20/08 | 11/13/08
64480 | Block Corporation (Wkrs) | Tupelo, MS | 11/20/08 | 11/17/08
64481 | Covalence Specialty Materials, LLC (Comp) | Albertville, AL | 11/20/08 | 11/19/08
64482 | SPX-APV (Union) | Lake Mills, WI | 11/20/08 | 11/18/08
64483 | Fisher and Company, Inc. (Comp) | St. Clair Shores, MI | 11/20/08 | 11/19/08
64484 | The Lang Companies (Wkrs) | Delafield, WI | 11/20/08 | 11/19/08
64485 | Traeger Pellet Grills, LLC (Wkrs) | Wilsonville, OR | 11/20/08 | 11/17/08
64486 | Motor City Mold, Inc. (State) | Plymouth, MI | 11/20/08 | 11/03/08
64487 | Advanced Urethane Technologies (USW) | Dubuque, IA | 11/20/08 | 11/19/08
64488 | Invensys Appliance Controls (Wkrs) | Holland, MI | 11/20/08 | 11/17/08
64489 | Wyeth Pharmaceuticals (Comp) | Rouses Point, NY | 11/20/08 | 11/19/08
64490 | ITW Impro (Wkrs) | Peotone, IL | 11/20/08 | 11/18/08
64491 | Carbone Kirkwood, LLC (Comp) | Farmville, VA | 11/21/08 | 11/13/08
64492 | GTP Greenville, Inc. (Comp) | Greenville, SC | 11/21/08 | 11/04/08
64493 | Floturn, Inc. (Comp) | Fairfield, OH | 11/21/08 | 11/20/08
64494 | Indian Transmission Plant 1 (UAW) | Kokomo, IN | 11/21/08 | 11/14/08
64495 | Wilen Manufacturing Co. (UNITE) | Atlanta, GA | 11/21/08 | 11/18/08
64496 | Hatteres Yachts (Wkrs) | New Bern, NC | 11/21/08 | 11/20/08
64497 | United Airlines (Union) | Portland, OR | 11/21/08 | 11/18/08
64498 | Jones Plastic and Engineer Co., LLC (Comp) | Jeffersontown, KY | 11/21/08 | 11/20/08
64499 | Whirlpool Corporation (State) | Benton Harbor, MI | 11/21/08 | 11/03/08
64500 | Fortune Swimwear LLC (Wkrs) | New York, NY | 11/21/08 | 11/20/08
64501 | Masterbrand Cabinets (Union) | Richmond, IN | 11/21/08 | 10/26/08
64502 | Ashley Furniture (Wkrs) | Ecru, MS | 11/21/08 | 11/12/08
64503 | Corning Cable Systems (Wkrs) | Hickory, NC | 11/21/08 | 11/20/08
64504 | Canac Company (State) | Statesville, NC | 11/21/08 | 11/19/08
64505 | Saunders Bros (Wkrs) | Fryeburg, ME | 11/21/08 | 11/20/08
64506 | International Paper (Wkrs) | Valliant, OK | 11/21/08 | 11/14/08
64507 | Columbia Forest Products (Comp) | Klamath Falls, OR | 11/21/08 | 11/18/08
64508 | Liberty Miami Distribution Center (Wkrs) | Miami, FL | 11/21/08 | 10/31/08
64509 | Intertec Systems (Wkrs) | Bardstown, KY | 11/21/08 | 11/10/08
64510 | Ford Motor Company (Comp) | Chicago, IL | 11/21/08 | 11/20/08
64511 | Manna Tech Inc. (Wkrs) | Coppell, TX | 11/21/08 | 11/21/08

[FR Doc. E8-29607 Filed 12-12-08; 8:45 am]

BILLING CODE 4510-FN-P